DEPARTMENT OF COMMERCE

National Institute of Standards and Technology

[Docket Number: 0906181063-91064-01]

Request for Comments on “Report to NIST on the Smart Grid Interoperability Standards Roadmap” (Contract No. SB1341-09-CN-0031—Deliverable 7)

AGENCY: National Institute of Standards and Technology (NIST), Department of Commerce.

ACTION: Notice; request for comments.

SUMMARY: The National Institute of Standards and Technology (NIST) seeks comments on a report, entitled “Report to NIST on the Smart Grid Interoperability Standards Roadmap” (the “EPRI Report”), prepared by the Electric Power Research Institute (EPRI) under a contract (Contract No. SB1341-09-CN-0031—Deliverable 7) awarded to engage Smart Grid stakeholders in the development of a draft interim standards roadmap. NIST will consider the EPRI Report, and comments received on the EPRI Report, in the development of NIST's interim “roadmap” for Smart Grid interoperability standards, a responsibility assigned to NIST under the Energy Independence and Security Act of 2007. All comments submitted should reference this notice.

DATES: Comments must be received on or before July 30, 2009.

ADDRESSES: Written comments may be sent to: George Arnold, 100 Bureau Drive, Stop 8100, National Institute of Standards and Technology, Gaithersburg, MD 20899-8100. Electronic comments may be sent to: smartgridcomments@nist.gov.

The report is available at: http://www.nist.gov/smartgrid/InterimSmartGridRoadmapNISTRestructure.pdf and at http://collaborate.nist.gov/twiki-sggrid/bin/view/SmartGrid/WebHome.

Additional information may be found at: http://www.nist.gov/smartgrid.

FOR FURTHER INFORMATION CONTACT: George Arnold, 100 Bureau Drive, Stop 8100, National Institute of Standards and Technology, Gaithersburg, MD 20899-8100, telephone (301) 975-5627.

SUPPLEMENTARY INFORMATION: Section 1305 of the Energy Independence and Security Act (EISA) of 2007 (Pub. L. 110-140) requires the Director of NIST “to coordinate the development of a framework that includes protocols and model standards for information management to achieve interoperability of smart grid devices and systems.” The Smart Grid is an important component of the Administration's comprehensive plan to reduce U.S. dependence on foreign oil, reduce greenhouse gas emissions, create jobs, and help U.S. industry lead in the global race to develop and apply clean energy technology. President Obama has set ambitious short and long-term goals, necessitating quick action and sustained progress in implementing the components, systems, and networks that will make up the Smart Grid.

In April 2009, NIST announced a three-phase plan to expedite development of interoperability standards for the Smart Grid. The EPRI Report is an input to the first phase of the NIST plan, in which NIST has sought to engage utilities, equipment suppliers, consumers, standards developers, and other stakeholders in a public process to identify Smart Grid interoperability standards and priorities for development of new standards. The full NIST plan is available at http://www.nist.gov/public_affairs/smartgrid_041309.html.

Under a contract (Contract No. SB1341-09-CN-0031) that NIST awarded earlier this year in connection with the first phase of the NIST plan, EPRI technical experts compiled and refined inputs from a variety of Smart Grid stakeholders. These inputs included technical contributions made at two EPRI-facilitated, two-day, public workshops (April 28-29, 2009, in Reston, Va; and May 19-20, 2009, in National Harbor, Md.). The EPRI Report also incorporates contributions from six expert working groups established by NIST in 2008, and from a cybersecurity coordination task group established in 2009. Hundreds of individuals, representing a broad range of stakeholders, have participated in the roadmapping process to date.

The EPRI Report contains material gathered and refined by the contractor using its technical expertise. The EPRI Report is not a formally reviewed and approved NIST publication. Rather, it is one of many inputs into the ongoing NIST-coordinated roadmapping process.

NIST is now reviewing EPRI's synthesis of stakeholder inputs received through the end of May 2009, as presented in the EPRI Report. NIST also will review the comments received from the public on the EPRI Report.

NIST will use the EPRI Report and public comments as inputs in drafting an initial NIST Smart Grid Interoperability Framework. The NIST Framework, which is intended to be a living document, will describe a high-level architecture, identify an initial set of key standards, and provide a roadmap for development of new or revised standards needed to realize the Smart Grid. Release 1.0 of the NIST Smart Grid Interoperability Standards Framework is expected to be available in September.

Authority: Section 1305 of the Energy Independence and Security Act of 2007 (Pub. L. 110-140).

Request for Comments: NIST seeks comments on EPRI's “Report to NIST on the Smart Grid Interoperability Standards Roadmap.” Comments should include a reference to this Federal Register notice. After evaluating the report and comments submitted in response to this request, as well as other inputs, NIST will draft an initial NIST Smart Grid Interoperability Framework, in accordance with responsibilities assigned to NIST under the EISA.

Dated: June 25, 2009.
Patrick Gallagher,
Deputy Director, NIST.

[FR Doc. E9-15467 Filed 6-29-09; 8:45 am]

BILLING CODE 3510-13-P